DEPARTMENT OF COMMERCE

International Trade Administration

[A-570-012]

Carbon and Certain Alloy Steel Wire Rod From the People's Republic of China: Postponement of Preliminary Determination of Antidumping Duty Investigation

AGENCY: Enforcement and Compliance, International Trade Administration, Department of Commerce.

DATES: Effective Date: June 17, 2014.

FOR FURTHER INFORMATION CONTACT: Brian Smith (202) 482-1766 or Brandon Custard (202) 482-1823; AD/CVD Operations, Office 2, Enforcement and Compliance, International Trade Administration, U.S. Department of Commerce, 14th Street and Constitution Avenue NW., Washington, DC 20230.

SUPPLEMENTARY INFORMATION:

Postponement of Preliminary Determination

On February 20, 2014, the Department of Commerce (the Department) initiated an antidumping duty investigation of imports of carbon and certain alloy steel wire rod from the People's Republic of China. See Carbon and Certain Alloy Steel Wire Rod From the People's Republic of China: Initiation of Antidumping Duty Investigation, 79 FR 11077 (February 27, 2014) (Initiation Notice). Pursuant to section 733(b)(1) of the Tariff Act of 1930, as amended (the Act) and 19 CFR 351.205(b), the Department shall issue its preliminary determination no later than 140 days after the date of initiation.¹ Currently, the preliminary determination in this investigation is due on July 10, 2014.

¹ In the Initiation Notice, the Department incorrectly stated that it would issue its preliminary determination no later than 140 days after the publication date of the initiation.

On June 4, 2014, ArcelorMittal USA LLC, Charter Steel, Evraz Pueblo, Gerdau Ameristeel US Inc., Keystone Consolidated Industries, Inc., and Nucor Corporation (hereafter, the petitioners) made timely requests, pursuant to section 733(c)(1)(A) of the Act and 19 CFR 351.205(e), for a 50-day postponement of the preliminary determination in the investigation.² The petitioners stated that a postponement of the preliminary determination is necessary to ensure adequate time to analyze and submit comments on (1) the respondent's questionnaire responses; (2) separate rate applications submitted by other companies; and (3) surrogate values for consideration in the preliminary determination.

² See the petitioners' letter to the Department dated June 4, 2014.

Under section 733(c)(1)(A) of the Act, if the petitioner makes a timely request for an extension of the period within which the preliminary determination must be made under subsection (b)(1), then the Department may postpone making the preliminary determination under subsection (b)(1) until not later than the 190th day after the date on which the Department initiated the investigation. Therefore, for the reasons stated above and because there are no compelling reasons to deny the petitioners' request pursuant to 19 CFR 351.205(e), the Department is postponing the preliminary determination in this investigation until August 29, 2014, which is 190 days from the date on which the Department initiated this investigation.

The deadline for the final determination will continue to be 75 days after the date of the preliminary determination, unless extended.

This notice is issued and published pursuant to section 733(c)(2) of the Act and 19 CFR 351.205(f)(1).

Dated: June 11, 2014.
Ronald K. Lorentzen,
Acting Assistant Secretary for Enforcement and Compliance.

[FR Doc. 2014-14158 Filed 6-16-14; 8:45 am]

BILLING CODE 3510-DS-P